DEPARTMENT OF DEFENSE

Office of the Secretary

[Docket ID: DoD-2025-HA-0215]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by October 23, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: TRICARE Select Survey of Civilian Providers; OMB Control Number 0720-0031.

Type of Request: Reinstatement.

Number of Respondents: 7,700.

Responses per Respondent: 1.

Annual Responses: 7,700.

Average Burden per Response: 5 minutes.

Annual Burden Hours: 642.

Needs and Uses: The TRICARE Select Survey of Civilian Providers (TSS-P) is an annual survey designed to gather data on providers (physicians including primary care physicians, specialist, and mental health providers and non-physician behavioral health providers) to assess the extent to which they are aware of the overall TRICARE program, accept new TRICARE patients specifically, the extent to which these providers accept Medicare patients, and reasons if they are not. Results from the TSS-P are now required by TRICARE Managed Care Support Contractors for use in mandatory evaluations of the effectiveness of their network providers and programs in supporting TRICARE.

Affected Public: Business or other for profit.

Frequency: As required.

Respondent's Obligation: Annually.

DoD Clearance Officer: Mr. Reginald Lucas.

Dated: September 19, 2025.
Stephanie J. Bost,
Alternate OSD Federal Register Liaison Officer, Department of Defense.

[FR Doc. 2025-18421 Filed 9-22-25; 8:45 am]

BILLING CODE 6001-FR-P